DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more individuals that have been placed on OFAC's Specially Designated Nationals and Blocked Persons List (SDN List). OFAC has determined that one or more applicable legal criteria were satisfied to place the individuals on the SDN List. All property and interests in property subject to U.S. jurisdiction of these individuals are blocked, and U.S. persons are generally prohibited from engaging in transactions with them.

DATES: See SUPPLEMENTARY INFORMATION section for applicable date(s).

FOR FURTHER INFORMATION CONTACT:

OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (www.treasury.gov/ofac).

Notice of OFAC Action

On September 4, 2020, OFAC determined that the property and interests in property subject to U.S. jurisdiction of the following individuals are blocked under the relevant sanctions authority listed below.

Individuals

1. DE LIMA SALAS, David Eugenio, Villas Martinique Casa 131 El Morro, Lecherias, Anzoategui, Venezuela; DOB 03 Apr 1959; POB Puerto La Cruz, Estado Anzoategui, Venezuela; nationality Venezuela; Gender Male; Cedula No. V-4719253 (Venezuela); Passport 144763935 (Venezuela) expires 02 Jul 2022 (individual) [VENEZUELA].

Designated pursuant to section 1(a)(ii)(A)(4) of Executive Order 13692 of March 8, 2015, “Blocking Property and Suspending Entry of Certain Persons Contributing to the Situation in Venezuela,” 80 FR 12747, 3 CFR, 2015 Comp., p. 276 (E.O. 13692), as amended by Executive Order 13857 of January 25, 2019, “Taking Additional Steps To Address the National Emergency With Respect to Venezuela,” 84 FR 509 (E.O. 13857), for being responsible for or complicit in, or responsible for ordering, controlling, or otherwise directing, or having participated in, directly or indirectly, public corruption by senior officials within the Government of Venezuela.

2. ALFONZO IZAGUIRRE, Indira Maira, Los Teques, Edo Miranda, Venezuela; DOB 29 Apr 1968; POB Venezuela; nationality Venezuela; Gender Female; Cedula No. V-6978710 (Venezuela); Passport 022795494 (Venezuela) expires 19 May 2014 (individual) [VENEZUELA].

Designated pursuant to section 1(a)(ii)(C) of E.O. 13692, as amended by E.O. 13857, for being a current or former official of the Government of Venezuela.

3. GUTIERREZ PARRA, Jose Luis, Calle Sucre, Res. Puma, Piso 2, Apto 24, Urb. Chacao, Caracas, Miranda 1060, Venezuela; DOB 13 Jun 1963; POB Puerto Ayacucho, Venezuela; nationality Venezuela; Gender Male; Cedula No. V-7048576 (Venezuela); Passport 108109658 (Venezuela) issued 15 Oct 2014 expires 14 Oct 2019 (individual) [VENEZUELA].

Designated pursuant to section 1(a)(ii)(C) of E.O. 13692, as amended by E.O. 13857, for being a current or former official of the Government of Venezuela.

4. MUNOZ PEDROZA, Reinaldo Enrique, C. Gil Fortoul, Centauro A, 5-D, Santa Monica, Caracas, Distrito Capital 1040, Venezuela; DOB 28 Nov 1971; POB Caracas, Venezuela; nationality Venezuela; Gender Male; Cedula No. V-10869426 (Venezuela); Passport 138050232 (Venezuela) expires 25 Jul 2021 (individual) [VENEZUELA].

Designated pursuant to section 1(a)(ii)(C) of E.O. 13692, as amended by E.O. 13857, for being a current or former official of the Government of Venezuela.

Dated: September 4, 2020.
Andrea Gacki,
Director, Office of Foreign Assets Control, U.S. Department of the Treasury.

[FR Doc. 2020-20412 Filed 9-15-20; 8:45 am]

BILLING CODE 4810-AL-P